DEPARTMENT OF ENERGY

Federal Energy Regulatory Commission

Notice of an Amendment of License and Soliciting Comments, Motions to Intervene, and Protests

January 28, 2000.

Take notice that the following hydroelectric application has been filed with the Commission and is available for public inspection:

a. Application Type: Amendment of License

b. Project No.: 2853-058

c. Date Filed: November 16, 1999

d. Applicant: State of Montana—Department of Natural Resources and Conversation

e. Name of Project: Broadwater Power Project

f. Location: On the Missouri River, in Broadwater County, Montana

g. Filed Pursuant to: 18 CFR 4.200

h. Applicant Contact: Mr. Walt Anderson, 48 North Last Chance Gulch, P.O. Box 201601, Helena, MT 59620-1601, Telephone: (406) 444-6646.

i. FERC Contact: Any questions on this notice should be addressed to Jake Tung at hong.tung@ferc.fed.us or 202-219-2663.

j. Deadline for filing comments and/or motions: March 15, 2000

All documents (original and eight copies) should be filed by March 15, 2000, with: David P. Boergers, Secretary, Federal Energy Regulatory Commission, 888 First Street, NE, Washington DC 20426. Please include the project number (2853-058) on any comments or motions filed.

k. Description of Filing: State of Montana—Department of Natural Resources and Conservation, licensee for the Broadwater Power project, proposes to construct a structural wall in the upstream reservoir between the turbine intake and the canal intake. The wall will begin at the upstream face of the dam and extend approximately 150 feet, with the centerline located about 50 feet from the right shoreline. The wall will be about 150 feet long, five-foot wide at top, and approximately 18 inches above the upstream normal reservoir operating level. The purpose of the wall structure is to separate the canal intake from the hydraulic influences of the turbine intake.

l. Locations of the application: A copy of the application is available for inspection and reproduction at the Commission's Public Reference Room, located at 888 First Street, NE, Room 2A, Washington, DC 20426, or by calling (202) 208-1371. The application may be viewed on the web at http://www.ferc.fed.us/online/rims.htm, (call (202) 208-2222 for assistance). A copy is also available for inspection and reproduction at the address in item “h” above.

m. Individuals desiring to be included on the Commission's mailing list should so indicate by writing to the Secretary of the Commission.

Comments, Protests, or Motions To Intervene

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents

Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, D.C. 20426. A copy of any motion to intervene must also be served upon each representative of the Applicant specified in the particular application.

Agency Comments

Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-2376 Filed 2-2-00; 8:45 am]

BILLING CODE 6717-01-M